DEPARTMENT OF THE INTERIOR

Geological Survey

Application Notice Describing an Opportunity of Federal Funding of Proposals Submitted Under the State Partnership Program (SPP) for Fiscal Year 2001

AGENCY: Department of the Interior, U.S. Geological Survey.

ACTION: Notice.

SUMMARY: Pre-proposal Applications are invited for projects dealing with invasive species issues under the FY2001 State Partnership Program (SPP).

The purpose of the FY 2001 SSP is provide support through grants and cooperative agreements to states and tribal agencies in the eastern United States whose primary focus is on gathering, analyzing, and distributing biological science information needed for natural resource management decision-making relating to invasive species. This program requires complementary study participation and interaction between State/Tribal institutions, including public universities, museums, and natural resource agencies, and Science Centers or Cooperative Research Units of the USGS, Eastern Region. For contact information relating to potential study cooperation and participation by scientists from the USGS Biological Resources Division, Eastern Region, Science Centers (6 Centers) and Cooperative Research Units (16 Units) access the following web sites: For Science Centers: http//biology.usgs.gov/pub_aff/centers.html and for Cooperative Units: http://biology.usgs.gov/coop/

Proposals involving the support and cooperation of multiple State parties as well as multiple Federal, private, or other entities are strongly favored. Respondents are encouraged to show linkages to other resource agencies, in addition to USGS, that have jurisdiction over public lands or public trust biotic resources and to the science information needs of other Department of the Interior bureaus and other Federal agencies. Proposals must demonstrate a commitment to information exchange and technology transfer.

Eligibility Requirements

Applicant Eligibility: State, Tribal, and/or U.S. Territories and Possessions that conduct natural resource studies and associated information management. No Federal or private agencies may apply.

Application and Award Process

Pre-proposal Submission: Eligible institutions may request a Pre-proposal Solicitation Package, including instructions on the SPP and how to submit an application, from the USGS, Eastern Regional Office (see address below). Pre-proposals must be submitted to USGS by State/Tribe institutions only, but must include information on participating USGS Science Center or Cooperative Research Unit.

Full-proposal Evaluation and Award: Full proposals will be requested in writing by the USGS from institutions that have submitted pre-proposals of high merit and who have met all of the pre-proposal requirements as detailed in the Pre-proposal Solicitation Package. Detailed specifications will be provided when the request for full proposals is made. After meeting all submission requirements, full proposals will be reviewed and evaluated by a technical review team. Projects will be individually scored and prioritized, and award recommendations forwarded to the USGS contracting office for award.

DATES: Completed pre-proposals must be submitted to the USGS, Eastern Regional Office and be postmarked no later than November 1, 2000. Full proposals will be required by January 15, 2001. Notification of awards will be made by February 1, 2001.

Application Information: A Pre-Proposal Solicitation Package, including a SPP Factsheet that gives examples of projects that have received funding in the past, may be requested from the USGS, Eastern Regional Office at the following address:

Dr. Gary D. Brewer, State Partnership Program Coordinator, USGS Biological Resources Division, Eastern Regional Office, 1700 Leetown Road, Kearneysville, WV 25430, Telephone: 304-724-4507, Fax: 304-724-4505, E-mail: gary_brewer@usgs.gov

Authority: Fish and Wildlife Act of 1956, 70 Stat. 1119, as amended, 16 U.S.C. 742a-742j; Fish and Wildlife Coordination Act of 1958, 16 U.S.C. 661-667e.

The Office of Management and Budget Catalog of Federal Domestic Assistance Number is 15.808.
Dated: September 8, 2000.
David P. Bornholdt,
Acting Regional Chief Biologist.

[FR Doc. 00-25178 Filed 9-29-00; 8:45 am]

BILLING CODE 4310-Y7-M